DEPARTMENT OF TRANSPORTATION

Federal Aviation Administration

14 CFR Part 39

[Docket No. FAA-2005-22974; Directorate Identifier 2005-NM-180-AD]

RIN 2120-AA64

Airworthiness Directives; BAE Systems (Operations) Limited Model BAe 146 Airplanes

AGENCY: Federal Aviation Administration (FAA), Department of Transportation (DOT).

ACTION: Notice of proposed rulemaking (NPRM).

SUMMARY: The FAA proposes to adopt a new airworthiness directive (AD) for certain BAE Systems (Operations) Limited Model BAe 146 airplanes. This proposed AD would require repetitive inspections to measure the depth of chafing or scoring in the skin along the full length of the fairing from forward to aft ends at the contact between the seal and fuselage, and related investigative/corrective actions if necessary. This proposed AD results from a report of chafing in this area. We are proposing this AD to ensure the structural integrity of the fuselage.

DATES: We must receive comments on this proposed AD by December 15, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street SW., Nassif Building, room PL-401, Washington, DC 20590.

• Fax: (202) 493-2251.

• Hand Delivery: Room PL-401 on the plaza level of the Nassif Building, 400 Seventh Street SW., Washington, DC, between 9 a.m. and 5 p.m., Monday through Friday, except Federal holidays.

Contact British Aerospace Regional Aircraft American Support, 13850 Mclearen Road, Herndon, Virginia 20171, for service information identified in this proposed AD.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION:

Comments Invited

We invite you to submit any relevant written data, views, or arguments regarding this proposed AD. Send your comments to an address listed in the ADDRESSES section. Include the docket number “FAA-2005-22974; Directorate Identifier 2005-NM-180-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

The Civil Aviation Authority (CAA), which is the airworthiness authority for the United Kingdom, notified us that an unsafe condition may exist on certain BAE Systems (Operations) Limited Model BAe 146 airplanes. The CAA advises that chafing has been reported along the skin along the full length of the fairing from forward to aft ends at the point of contact between the seal and fuselage. Subsequent review of the existing inspection program for this type of damage resulted in changes to the program. Such damage, if not corrected, could result in reduced structural integrity of the fuselage.

Relevant Service Information

The manufacturer issued BAE Systems (Operations) Limited Service Bulletins ISB.53-005, Revision 2, dated February 16, 2004, and ISB.53-067, Revision 3, dated June 27, 2005. They describe procedures for repetitive inspections, using a dial test indicator, to measure the depth of chafing or scoring in the skin along the full length of the fairing from forward to aft ends at the points of contact between the seal and fuselage. The following table identifies the inspection areas described in the service bulletins.

Inspection Areas
Use Service Bulletin— | For— | To inspect between—
ISB.53-067 | Model BAe 146-100A series airplanes | Frames 25 and 36.
| Model BAe 146-200A series airplanes | Frames 25 and 34.
| Model BAe 146-300A series airplanes | Frames 25 and 33C.
ISB.53-005 | All affected airplanes | Frames 23 and 25.

The related investigative/corrective actions described in the service bulletins depend on the amount of chafing damage found:

• For chafing damage within certain limits, the service bulletins describe procedures for blending the damage, and measuring the skin thickness and depth of the blended area and the thickness of the adjacent skin above the blended area.

• For deeper chafing damage (including damage remaining after blending), the service bulletins specify reinspecting affected areas within 2,000 or 4,000 flight cycles, depending on the amount of chafing found. The service bulletin allows operators to defer repair of this amount of chafing for up to 1,000 flight cycles, if operators reinspect affected areas within 250 flight cycles and contact the manufacturer for a repair plan.

• For the deepest chafing damage, the service bulletins recommend contacting the manufacturer for an immediate repair plan.

Accomplishing the actions specified in the service information is intended to adequately address the unsafe condition. The CAA mandated the service information and issued British airworthiness directive G-2005-0020, dated July 6, 2005, to ensure the continued airworthiness of these airplanes in the United Kingdom.

FAA's Determination and Requirements of the Proposed AD

This airplane model is manufactured in the United Kingdom and is type certificated for operation in the United States under the provisions of section 21.29 of the Federal Aviation Regulations (14 CFR 21.29) and the applicable bilateral airworthiness agreement. Pursuant to this bilateral airworthiness agreement, the CAA has kept the FAA informed of the situation described above. We have examined the CAA's findings, evaluated all pertinent information, and determined that we need to issue an AD for airplanes of this type design that are certificated for operation in the United States.

Therefore, we are proposing this AD, which would require the actions specified in the service information described previously, except as discussed below.

Difference Between the Proposed AD and the Service Information

The service bulletins specify to contact the manufacturer for instructions on repairing certain conditions, but this proposed AD would require repairing those conditions using a method that we or the CAA (or its delegated agent) approve. In light of the type of repair that would be required to address the unsafe condition, and consistent with existing bilateral airworthiness agreements, for this proposed AD, a repair we or the CAA approve would be acceptable for compliance with this proposed AD.

Clarification of Repetitive Inspection Interval

The British airworthiness directive, at paragraph C), specifies to repeat the inspections within 4,000-flight-cycle intervals. Under certain conditions, the corresponding interval in Inspection Service Bulletin ISB.53-005 is 2,000 flight cycles. We have determined that a 2,000-flight-cycle interval, under those conditions, is necessary to ensure an acceptable level of safety. The British airworthiness directive does not specify the conditions warranting the reduced repetitive interval, but it does refer to the service bulletin for instructions for corrective action. Our requirements correspond to the service bulletin specifications.

Costs of Compliance

The following table provides the estimated costs for U.S. operators to comply with this proposed AD.

Action | Work hours | Average labor rate per hour | Parts | Cost per airplane | Number of U.S.-registered airplanes | Fleet cost
Inspection (ISB.53-005) | 2 | $65 | None | $130 | 35 | $4,550
Inspection (ISB.53-067) | 4 | 65 | None | 260 | 35 | 9,100

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

BAE Systems (Operations) Limited (Formerly British Aerospace Regional Aircraft): Docket No. FAA-2005-22974; Directorate Identifier 2005-NM-180-AD.

Comments Due Date

(a) The FAA must receive comments on this AD action by December 15, 2005.

Affected ADs

(b) None.

Applicability

(c) This AD applies to BAE Systems (Operations) Limited Model BAe 146-100A, -200A, and -300A series airplanes, certificated in any category, on which Modification HCM00301A or B has been done, and on which Modification HCM0169A has not been done.

Unsafe Condition

(d) This AD results from a report of chafing along the seal/fuselage contact area under the wing-to-fuselage fairing access panels on both sides of the fuselage. We are issuing this AD to ensure the structural integrity of the fuselage.

Compliance

(e) You are responsible for having the actions required by this AD performed within the compliance times specified, unless the actions have already been done.

Inspection

(f) Before the airplane accumulates 1,000 total flight cycles, or within 500 flight cycles after the effective date of this AD, whichever occurs later: Inspect, using a dial test indicator, to measure the depth of any chafing or scoring in the skin along the full length of the fairing from forward to aft ends at the point of contact between the seal and fuselage on both sides of the fuselage. Do applicable related investigative/corrective actions in accordance with the Accomplishment Instructions of BAE Systems (Operations) Limited Service Bulletins ISB.53-005, Revision 2, dated February 16, 2004, and ISB.53-067, Revision 3, dated June 27, 2005, except as required by paragraph (g) of this AD. Do related investigative/corrective actions and repeat the inspection to measure the chafing/scoring at the times specified in the service bulletins, as applicable.

Exceptions to Service Bulletin Specifications

(g) Where the service bulletins referenced in this AD specify to contact the manufacturer for repair instructions: Before further flight, repair using a method approved by either the Manager, International Branch, ANM-116, Transport Airplane Directorate, FAA; or the Civil Aviation Authority (or its delegated agent).

(h) Although the service bulletins referenced in this AD specify to submit certain information to the manufacturer, this AD does not include that requirement.

Credit for Earlier Accomplishment

(i) Inspections and applicable investigative and corrective actions done before the effective date of this AD are acceptable for compliance with the requirements of paragraph (f) of this AD if done in accordance with one of the service bulletin versions identified in Table 1 of this AD, as applicable.

Table 1.—Credit Service Bulletins
BAE Systems (Operations) limited service bulletin | Revision level | Date
ISB.53-005 | Original | August 15, 1984.
| Revision 1 | April 19, 1984.
ISB.53-067 | Original | December 23, 1987.
| Revision 1 | February 16, 1990.
| Revision 2 | February 16, 2004.

Alternative Methods of Compliance (AMOCs)

(j)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(k) British airworthiness directive G-2005-0020, dated July 6, 2005, also addresses the subject of this AD.

Issued in Renton, Washington, on November 7, 2005.
Kalene C. Yanamura,
Acting Manager, Transport Airplane Directorate, Aircraft Certification Service.

[FR Doc. 05-22587 Filed 11-14-05; 8:45 am]

BILLING CODE 4910-13-U